DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, U.S. Department of Commerce, Franklin Court Building, 1099 14th Street, NW, Washington, D.C.

Docket Number: 05-014.

Applicant: Baylor College of Medicine, One Baylor Plaza, Houston, TX 77030.

Instrument: Electron Microscope, Model JEM-2100.

Manufacturer: JEOL, Ltd., Japan.

Intended Use: The instrument is intended to be used to study 3-dimensional structures, with 3 to 6 angstrom resolution, of materials to include proteins, viruses and receptors which are involved in a variety of biological processes including catalytic reactions, viral morphogenesis, signal transduction and molecular transport. Properties of materials to be studied have a tendency to form higher-order aggregates, which are radiation sensitive to the incident electrons. Specimens will be kept hydrated at 25-50 degrees K which is optimal for reducing microscope radiation.

Application accepted by Commissioner of Customs: March 7, 2005.

Docket Number: 05-015.

Applicant: Baylor College of Medicine, One Baylor Plaza, Houston, TX 77030.

Instrument: Electron Microscope, Model JEM-3200FSC.

Manufacturer: JEOL, Ltd., Japan.

Intended Use: The instrument is intended to be used to study 3-dimensional structures, with 3 to 6 angstrom resolution, of materials to include proteins, viruses and receptors which are involved in a variety of biological processes including catalytic reactions, viral morphogenesis, signal transduction and molecular transport. Properties of materials to be studied have a tendency to form higher-order aggregates, which are radiation sensitive to the incident electrons. Specimens will be kept hydrated at 25-50 degrees K which is optimal for reducing microscope radiation.

Application accepted by Commissioner of Customs: March 7,2005.

Gerald A. Zerdy,
Program Manager, Statutory Import Programs Staff.

[FR Doc. E5-1493 Filed 4-1-05; 8:45 am]

BILLING CODE 3510-DS-S